DEPARTMENT OF TRANSPORTATION

Federal Aviation Administration

14 CFR Part 39

[Docket No. FAA-2017-0490; Directorate Identifier 2017-NE-13-AD]

RIN 2120-AA64

Airworthiness Directives; Ipeco Holdings Ltd. Pilot and Co-Pilot Seats

AGENCY: Federal Aviation Administration (FAA), DOT.

ACTION: Notice of proposed rulemaking (NPRM).

SUMMARY: We propose to adopt a new airworthiness directive (AD) for certain Ipeco Holdings Ltd. (Ipeco) pilot and co-pilot seats. This proposed AD was prompted by reports of unexpected movement of pilot and co-pilot seats on takeoff and landing. This proposed AD would require modification and reidentification of the affected seats. We are proposing this AD to correct the unsafe condition on these products.

DATES: We must receive comments on this NPRM by July 31, 2017.

ADDRESSES: You may send comments by any of the following methods:

• Federal eRulemaking Portal: Go to http://www.regulations.gov. Follow the instructions for submitting comments.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this proposed AD, contact Ipeco Holdings Ltd., Aviation Way, Southend on Sea, SS2 6UN, United Kingdom; phone: 44 1702 549371; fax: 44 1702 540782; email: sales@Ipeco.com. You may view this service information at the FAA, Engine & Propeller Directorate, 1200 District Avenue, Burlington, MA. For information on the availability of this material at the FAA, call 781-238-7125.

Examining the AD Docket

You may examine the AD docket on the Internet at http://www.regulations.gov by searching for and locating Docket No. FAA-2017-0490; or in person at the Docket Operations office between 9 a.m. and 5 p.m., Monday through Friday, except Federal holidays. The AD docket contains this proposed AD, the mandatory continuing airworthiness information (MCAI), the regulatory evaluation, any comments received, and other information. The address for the Docket Office (phone: 800-647-5527) is in the ADDRESSES section. Comments will be available in the AD docket shortly after receipt.

FOR FURTHER INFORMATION CONTACT: Neil Doh, Aerospace Engineer, Boston Aircraft Certification Office, FAA, Engine & Propeller Directorate, 1200 District Avenue, Burlington, MA 01803; phone: 781-238-7757; fax: 781-238-7199; email: neil.doh@faa.gov.

SUPPLEMENTARY INFORMATION:

Comments Invited

We invite you to send any written relevant data, views, or arguments about this proposed AD. Send your comments to an address listed under the ADDRESSES section. Include “Docket No. FAA-2017-0490; Directorate Identifier 2017-NE-13-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact with FAA personnel concerning this proposed AD.

Discussion

The European Aviation Safety Agency (EASA), which is the Technical Agent for the Member States of the European Community, has issued EASA AD 2016-0256, dated December 16, 2016 (referred to hereinafter as “the MCAI”), to correct an unsafe condition for the specified products. The MCAI states:

Occurrences have been reported of pilot/co-pilot unexpected rearward movement during take-off and landing. Investigations determined that horizontal guide block wear, presence of burrs on horizontal centre track, and horizontal track lock system weakness (spring tension too low) were various causes which contributed to the seat not being correctly locked.

This condition, if not corrected, could lead to further cases of unwanted flight crew seat movement, possibly resulting in reduced control of the aeroplane.

You may obtain further information by examining the MCAI in the AD docket on the Internet at http://www.regulations.gov by searching for and locating Docket No. FAA-2017-0490.

Related Service Information Under 1 CFR Part 51

Ipeco has issued Service Bulletin (SB) 063-25-08, Revision 00; SB 063-25-09, Revision 00; and SB 063-25-10, Revision 00; all dated May 31, 2016. These SBs provides instructions, differentiated by the part numbers of the affected pilot and co-pilot seats, for the modification and reidentification of these seats. This service information is reasonably available because the interested parties have access to it through their normal course of business or by the means identified in the ADDRESSES section.

FAA's Determination and Requirements of This Proposed AD

This product has been approved by the aviation authority of the United Kingdom, and is approved for operation in the United States. Pursuant to our bilateral agreement with the European Community, EASA has notified us of the unsafe condition described in the MCAI and service information referenced above. We are proposing this AD because we evaluated all information provided by EASA and determined the unsafe condition exists and is likely to exist or develop on other products of the same type design. This proposed AD would require modification and reidentification of the affected pilot and co-pilot seats.

Costs of Compliance

We estimate that this proposed AD affects an unknown number of pilot and co-pilot seats installed on 55 airplanes of U.S. registry.

We estimate the following costs to comply with this proposed AD:

Estimated Costs
Action | Labor cost | Parts cost | Cost per product | Cost on U.S. operators
Modify crew seats | 2 work-hours × $85 per hour = $170 | $125 | $295 | $16,225

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Ipeco Holdings Ltd.: Docket No. FAA-2017-0490; Directorate Identifier 2017-NE-13-AD.

(a) Comments Due Date

We must receive comments by July 31, 2017.

(b) Affected ADs

None.

(c) Applicability

(1) This AD applies to Ipeco Holdings Ltd. (Ipeco) pilot and co-pilot crew seats with a part number (P/N) listed in the Planning Information section of Ipeco Service Bulletins (SBs) 063-25-08, Revision 00, dated May 31, 2016; 063-25-09, Revision 00, dated May 31, 2016; and 063-25-10, Revision 00, dated May 31, 2016.

(2) These seats are installed on, but not limited to, ATR-GIE Avions de Transport Regional ATR 42 and ATR 72 airplanes.

(d) Subject

Joint Aircraft System Component (JASC) Code 2510, Flight Compartment Equipment.

(e) Reason

This AD was prompted by reports of unexpected movement of pilot and co-pilot seats on takeoff and landing. We are issuing this AD to prevent unexpected movement of pilot and co-pilot seats on takeoff and landing. The unsafe condition, if not corrected, could result in reduced control of the airplane.

(f) Compliance

(1) Comply with this AD within the compliance times specified, unless already done.

(2) Within 2 years after the effective date of this AD, modify and reidentify each affected pilot and co-pilot seat. Use the Accomplishment Instructions of Ipeco SB 063-25-08, Revision 00, dated May 31, 2016; Ipeco SB 063-25-09, Revision 00, dated May 31, 2016; or Ipeco SB 063-25-10, Revision 00, dated May 31, 2016; as appropriate, to do the modification and reidentification.

(g) Installation Prohibition

Do not install any pilot or co-pilot seat identified in paragraph (c) of this AD unless the seat is modified and reidentified as specified in paragraph (f)(2) of this AD.

(h) Alternative Methods of Compliance (AMOCs)

The Manager, Boston Aircraft Certification Office, FAA, may approve AMOCs for this AD. Use the procedures found in 14 CFR 39.19 to make your request.

(i) Related Information

(1) For more information about this AD, contact Neil Doh, Aerospace Engineer, Boston Aircraft Certification Office, FAA, Engine & Propeller Directorate, 1200 District Avenue, Burlington, MA 01803; phone: 781-238-7757; fax: 781-238-7199; email: neil.doh@faa.gov.

(2) Refer to MCAI European Aviation Safety Agency AD 2016-0256, dated December 16, 2016, for more information. You may examine the MCAI in the AD docket on the Internet at http://www.regulations.gov by searching for and locating it in Docket No. FAA-2017-0490.

(3) Ipeco SB 063-25-08, Revision 00, dated May 31, 2016; Ipeco SB 063-25-09, Revision 00, dated May 31, 2016; and Ipeco SB 063-25-10, Revision 00, dated May 31, 2016, can be obtained from Ipeco, using the contact information in paragraph (i)(4) of this proposed AD.

(4) For service information identified in this proposed AD, contact Ipeco Holdings Ltd., Aviation Way, Southend on Sea, SS2 6UN, United Kingdom; phone: 44 1702 549371; fax: 44 1702 540782; email: sales@Ipeco.com.

(5) You may view this service information at the FAA, Engine & Propeller Directorate, 1200 District Avenue, Burlington, MA. For information on the availability of this material at the FAA, call 781-238-7125.

Issued in Burlington, Massachusetts, on June 9, 2017.
Robert J. Ganley,
Acting Manager, Engine & Propeller Directorate, Aircraft Certification Service.

[FR Doc. 2017-12305 Filed 6-15-17; 8:45 am]

BILLING CODE 4910-13-P